DEPARTMENT OF THE TREASURY

Internal Revenue Service

26 CFR Part 1

[TD 9137]

RIN 1545-BA81

Partnership Transactions Involving Long-Term Contracts; Correction

AGENCY: Internal Revenue Service (IRS), Treasury.

ACTION: Correction to final regulations.

SUMMARY: This document contains corrections to final regulations (TD 9137) that were published in the Federal Register on Friday, July 16, 2004 (69 FR 42551) relating to partnership transactions involving contracts accounted for under a long-term contract method of accounting.

DATES: This correction is effective July 16, 2004.

FOR FURTHER INFORMATION CONTACT: Richard Probst at (202) 622-3060 (not a toll-free number).

SUPPLEMENTARY INFORMATION:

Background

The final regulations that are the subject of these corrections are under section 460 of the Internal Revenue Code.

Need for Correction

As published, TD 9137 contains errors that may prove to be misleading and are in need of clarification.

Correction of Publication

Accordingly, the publication of the final regulations (TD 9137), which was the subject of FR Doc. 04-15833, is corrected as follows:

§ 1.1362-3 [Corrected]

1. On page 42559, column 2, § 1.1362-3, Par. 14., second line, the language, “by adding a sentence is at the end of” is corrected to read “by adding a sentence at the end of”.

Cynthia E. Grigsby,
Acting Chief, Publications and Regulations Branch, Legal Processing Division, Associate Chief Counsel (Procedures and Administration).

[FR Doc. 04-20166 Filed 9-2-04; 8:45 am]

BILLING CODE 4830-01-P